DEPARTMENT OF ENERGY

Agency Information Collection Extension

AGENCY: U.S. Department of Energy.

ACTION: Notice and request for comments.

SUMMARY: The Department of Energy (DOE), pursuant to the Paperwork Reduction Act of 1995, intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, and clarity of the information to be collected; and (d) ways to minimize the burden of the collection of information on respondents, including through the use of automated collection techniques or other forms of information technology.

DATES: Comments regarding this proposed information collection must be received on or before May 27, 2008. If you anticipate difficulty in submitting comments within that period, contact the person listed below as soon as possible.

ADDRESSES: Written comments may be sent to Robert J. Marchick, GC-62, U.S. Department of Energy, 1000 Independence Ave., SW., Washington, DC 20585.

FOR FURTHER INFORMATION CONTACT: Requests for additional information or copies of the information collection instrument and instructions should be directed to Robert J. Marchick at the address listed above.

SUPPLEMENTARY INFORMATION: This information collection request contains: (1) OMB No. 1910-0800; (2) Information Collection Request Title: Legal Collections; (3) Type of Review: Renewal; (4) Purpose: to continue to maintain DOE control and oversight of DOE contractor invention reporting and related matters; (5) Respondents: approx. 2160 respondents; (6) Estimated Number of Burden Hours: Approx. 16745 hours.

Statutory Authority: 42 U.S.C. 5908(a) and (b).

Issued in Washington, DC on March 19, 2008.
Robert J. Marchick,
Acting Assistant General Counsel for Technology Transfer and Intellectual Property, Office of General Counsel.

[FR Doc. E8-5990 Filed 3-24-08; 8:45 am]

BILLING CODE 6450-01-P